SMALL BUSINESS ADMINISTRATION

Revocation of License of Small Business Investment Company

Pursuant to the authority granted to the United States Small Business Administration by the Final Order of the United States District Court for the District for The Middle District of Tennessee, dated September 13, 2000, the United States Small Business Administration hereby revokes the license of Tennessee Venture Capital Corporation, a Tennessee Corporation, to function as a small business investment company under the Small Business Investment Company License No. 04/04-5176 issued to Tennessee Venture Capital Corporation on September 28, 1979 and said license is hereby declared null and void as of September 30, 2000.

Dated: January 11, 2001.
Small Business Administration.
Don A. Christensen,
Associate Administrator for Investment.

[FR Doc. 01-2213 Filed 1-24-01; 8:45 am]

BILLING CODE 8025-01-P